FEDERAL HOUSING FINANCE AGENCY

[No. 2011-N-12]

Federal Home Loan Bank Members Selected for Community Support Review

AGENCY: Federal Housing Finance Agency.

ACTION: Notice.

SUMMARY: The Federal Housing Finance Agency (FHFA) is announcing the Federal Home Loan Bank (Bank) members it has selected for the 2010 fourth round review cycle under the FHFA's community support requirements regulation. This notice also prescribes the deadline by which Bank members selected for review must submit Community Support Statements to FHFA.

DATES: Bank members selected for the review cycle under the FHFA's community support requirements regulation must submit completed Community Support Statements to FHFA on or before December 27, 2011.

ADDRESSES: Bank members selected for the 2010 fourth round review cycle under the FHFA's community support requirements regulation must submit completed Community Support Statements to FHFA either by hard-copy mail at the Federal Housing Finance Agency, Housing Mission and Goals, 1625 Eye Street NW., Washington, DC 20006, or by electronic mail at hmgcommunitysupportprogram@fhfa.gov.

FOR FURTHER INFORMATION CONTACT: Rona Richardson, Office Assistant, Housing Mission and Goals, Federal Housing Finance Agency, by telephone at (202) 408-2945, by electronic mail at Rona.Richardson@FHFA.gov, or by hard-copy mail at the Federal Housing Finance Agency, 1625 Eye Street NW., Washington, DC 20006.

SUPPLEMENTARY INFORMATION:

I. Selection for Community Support Review

Section 10(g)(1) of the Federal Home Loan Bank Act (Bank Act) requires FHFA to promulgate regulations establishing standards of community investment or service Bank members must meet in order to maintain access to long-term advances. See 12 U.S.C. 1430(g)(1). The regulations promulgated by FHFA must take into account factors such as the Bank member's performance under the Community Reinvestment Act of 1977 (CRA), 12 U.S.C. 2901 et seq., and record of lending to first-time homebuyers. See 12 U.S.C. 1430(g)(2). Pursuant to section 10(g) of the Bank Act, FHFA has promulgated a community support requirements regulation that establishes standards a Bank member must meet in order to maintain access to long-term advances, and review criteria FHFA must apply in evaluating a member's community support performance. See 12 CFR part 1290. The regulation includes standards and criteria for the two statutory factors—CRA performance and record of lending to first-time homebuyers. 12 CFR 1290.3. Only members subject to the CRA must meet the CRA standard. 12 CFR 1290.3(b). All members, including those not subject to CRA, must meet the first-time homebuyer standard. 12 CFR 1290.3(c).

Under the rule, FHFA selects approximately one-eighth of the members in each Bank district for community support review each calendar quarter. 12 CFR 1290.2(a). FHFA will not review an institution's community support performance until it has been a Bank member for at least one year. Selection for review is not, nor should it be construed as, any indication of either the financial condition or the community support performance of the member.

Each Bank member selected for review must complete a Community Support Statement and submit it to FHFA by the December 27, 2011 deadline prescribed in this notice. 12 CFR 1290.2(b)(1)(ii) and (c). On or before November 24, 2011, each Bank will notify the members in its district that have been selected for the 2010 fourth round community support review cycle that they must complete and submit to FHFA by the deadline a Community Support Statement. 12 CFR 1290.2(b)(2)(i). The member's Bank will provide a blank Community Support Statement Form (OMB No. 2590-0005), which also is available on the FHFA's Web site: http://www.fhfa.gov/webfiles/2924/FHFAForm060.pdf. Upon request, the member's Bank also will provide assistance in completing the Community Support Statement.

FHFA has selected the following members for the 2010 fourth round community support review cycle:

Federal Home Loan Bank of Boston—District 1
Union Savings Bank | Danbury | Connecticut
Jewett City Savings Bank | Jewett City | Connecticut
Naugatuck Valley Savings and Loan | Naugatuck | Connecticut
Newtown Savings Bank | Newtown | Connecticut
Fairfield County Bank | Ridgefield | Connecticut
First County Bank | Stamford | Connecticut
Patriot National Bank | Stamford | Connecticut
Dutch Point Credit Union | Wethersfield | Connecticut
Windsor Locks Federal Credit Union | Windsor Locks | Connecticut
Athol Credit Union | Athol | Massachusetts
Crescent Credit Union | Brockton | Massachusetts
Brookline Bank | Brookline | Massachusetts
North Cambridge Co-Operative Bank | Cambridge | Massachusetts
Cambridge Trust Company | Cambridge | Massachusetts
Canton Co-Operative Bank | Canton | Massachusetts
Meetinghouse Co-Operative Bank | Dorchester | Massachusetts
Edgartown National Bank | Edgartown | Massachusetts
Fidelity Co-Operative Bank | Fitchburg | Massachusetts
Greenfield Co-Operative Bank | Greenfield | Massachusetts
Haverhill Bank | Haverhill | Massachusetts
Leominster Credit Union | Leominster | Massachusetts
The Lowell Co-operative Bank | Lowell | Massachusetts
Marlborough Savings Bank | Marlborough | Massachusetts
Milford Federal Savings & Loan Association | Milford | Massachusetts
Natick Federal Savings Bank | Natick | Massachusetts
Institution Savings in Newburyport and its Vicinity | Newburyport | Massachusetts
Rockland Federal Credit Union | Rockland | Massachusetts
South Coastal Bank | Rockland | Massachusetts
The Cooperative Bank | Roslindale | Massachusetts
Salem Five Cents Savings Bank | Salem | Massachusetts
TAUPA Lithuanian Federal Credit Union | Boston | Massachusetts
Southbridge Credit Union | Southbridge | Massachusetts
Stoneham Savings Bank | Stoneham | Massachusetts
Country Bank for Savings | Ware | Massachusetts
Wellesley Bank | Wellesley | Massachusetts
Cape Cod Co-Operative Bank | Hyannis | Massachusetts
Northeast Bank | Lewiston | Maine
Bangor Savings Bank | Bangor | Maine
Bangor Federal Credit Union | Bangor | Maine
Bar Harbor Savings & Loan Association | Bar Harbor | Maine
York County Federal Credit Union | Sanford | Maine
Centrix Bank & Trust | Bedford | New Hampshire
Northway Bank | Berlin | New Hampshire
Profile Bank, FSB | Rochester | New Hampshire
Holy Rosary Regional Credit Union | Rochester | New Hampshire
BankNewport | Newport | Rhode Island
Greenwood Credit Union | Warwick | Rhode Island
The Brattleboro Savings and Loan Association | Brattleboro | Vermont
Federal Home Loan Bank of New York—District 2
Cape Bank | Cape May Court House | New Jersey
United Roosevelt Savings Bank | Carteret | New Jersey
Unity Bank | Clinton | New Jersey
First Constitution Bank | Cranbury | New Jersey
Delanco Federal Savings Bank | Delanco | New Jersey
Pinnacle Federal Credit Union | Edison | New Jersey
Columbia Bank | Fair Lawn | New Jersey
Haven Savings Bank | Hoboken | New Jersey
1st Bank of Sea Isle City | Sea Isle City | New Jersey
Union Center National Bank | Union | New Jersey
Manasquan Savings Bank | Wall Township | New Jersey
Wawel Savings Bank | Wallington | New Jersey
Crest Savings Bank | Wildwood Crest | New Jersey
The Bridgehampton National Bank | Bridgehampton | New York
Atlas Bank | Brooklyn | New York
Visions Federal Credit Union | Endicott | New York
Tompkins Trust Company | Ithaca | New York
First National Bank of Jeffersonville | Jeffersonville | New York
The National Union Bank of Kinderhook | Kinderhook | New York
Mid-Hudson Valley Federal Credit Union | Kingston | New York
Medina Savings & Loan Association | Medina | New York
Northeast Community Bank | New York | New York
Israel Discount Bank of New York | New York | New York
Emigrant Bank | New York | New York
NBT Bank, N.A | Norwich | New York
The Oneida Savings Bank | Oneida | New York
Suffolk County National Bank of Riverhead | Riverhead | New York
Sawyer Savings Bank | Saugerties | New York
Adirondack Bank | Utica | New York
Hometown Bank of the Hudson Valley | Walden | New York
First Central Savings Bank | Whitestone | New York
Banco Bilbao Vizcaya Argentaria Puerto Rico | San Juan | Puerto Rico
Federal Home Loan Bank of Pittsburgh—District 3
Ing Bank, FSB | Wilmington | Delaware
First National Bank of Wyoming | Wyoming | Delaware
American Bank | Allentown | Pennsylvania
Iron Workers Bank | Aston | Pennsylvania
National Penn Bank | Boyertown | Pennsylvania
Union Building and Loan Savings Bank | Bridgewater | Pennsylvania
Clearfield Bank & Trust | Clearfield | Pennsylvania
Centric Bank | Harrisburg | Pennsylvania
Indiana First Savings Bank | Indiana | Pennsylvania
The Jim Thorpe National Bank | Jim Thorpe | Pennsylvania
Manor Bank | Manor | Pennsylvania
Union Community Bank | Marietta | Pennsylvania
Riverview National Bank | Marysville | Pennsylvania
Standard Bank, PASB | Murrysville | Pennsylvania
Sb1 Federal Credit Union | Philadelphia | Pennsylvania
American Heritage Federal Credit Union | Philadelphia | Pennsylvania
Philadelphia Trust Company | Philadelphia | Pennsylvania
Customers Bank | Phoenixville | Pennsylvania
Brentwood Bank | Pittsburgh | Pennsylvania
PNC Bank, N.A | Pittsburgh | Pennsylvania
Allegheny Valley Bank of Pittsburgh | Pittsburgh | Pennsylvania
Franklin Security Bank | Plains | Pennsylvania
Somerset Trust Company | Somerset | Pennsylvania
Univest Bank and Trust Company | Souderton | Pennsylvania
Compass Savings Bank | Wilmerding | Pennsylvania
Sovereign Bank | Wyomissing | Pennsylvania
Hancock County Savings Bank, FSB | Chester | West Virginia
Citizens Bank of West Virginia | Elkins | West Virginia
MVB Bank, Inc | Fairmont | West Virginia
Fayette County National Bank | Fayetteville | West Virginia
The Bank of Romney | Romney | West Virginia
Progressive Bank, N.A | Wheeling | West Virginia
Federal Home Loan Bank of Atlanta—District 4
America's First Federal Credit Union | Birmingham | Alabama
First Educators Credit Union | Birmingham | Alabama
First Bank of Boaz | Boaz | Alabama
Town-country National Bank | Camden | Alabama
Coosa Pines Federal Credit Union | Childersburg | Alabama
EvaBank | Eva | Alabama
Escambia County Bank | Flomaton | Alabama
First Federal Bank | Fort Payne | Alabama
Traders & Farmers Bank | Haleyville | Alabama
City Bank of Hartford | Hartford | Alabama
Worthington Federal Bank | Huntsville | Alabama
Pinnacle Bank | Jasper | Alabama
Marion Bank and Trust Company | Marion | Alabama
Bank of Pine Hill | Pine Hill | Alabama
First Federal Bank, A FSB | Tuscaloosa | Alabama
Alabama Credit Union | Tuscaloosa | Alabama
AmeriFirst Bank | Union Springs | Alabama
Small Town Bank | Wedowee | Alabama
Bank of York | York | Alabama
Independence Federal Savings Bank | Washington | District of Columbia
Library of Congress Federal Credit Union | Washington | District of Columbia
Bank of Delmarva | Seaford | Delaware
First Southern Bank | Boca Raton | Florida
Platinum Bank | Brandon | Florida
Citizens Bank and Trust | Frostproof | Florida
Columbia Bank | Lake City | Florida
Pacific National Bank | Miami | Florida
City National Bank of Florida | Miami | Florida
Intercredit Bank, N.A | Miami | Florida
Northern Trust, National Association | Miami | Florida
Farmers and Merchants Bank | Monticello | Florida
The First National Bank of Mount Dora | Mount Dora | Florida
Fairwinds Credit Union | Orlando | Florida
Community Credit Union of Florida | Rockledge | Florida
Cornerstone Community Bank | St. Petersburg | Florida
Valrico State Bank | Valrico | Florida
Grand Bank & Trust of Florida | West Palm Beach | Florida
The Perkins State Bank | Williston | Florida
Albany Bank & Trust | Albany | Georgia
SunTrust Bank, Atlanta | Atlanta | Georgia
First Port City Bank | Bainbridge | Georgia
Peoples State Bank and Trust | Baxley | Georgia
Bank of Early | Blakely | Georgia
Tippins Bank and Trust Company | Claxton | Georgia
The Citizens Bank of Forsyth County | Cumming | Georgia
First Bank of Dalton | Dalton | Georgia
Alliance National Bank | Dalton | Georgia
Decatur First Bank | Decatur | Georgia
The Bank of Edison | Edison | Georgia
Colony Bank | Fitzgerald | Georgia
Community Banking Company of Fitzgerald | Fitzgerald | Georgia
Commercial Banking Company | Hahira | Georgia
Farmers State Bank | Lumpkin | Georgia
The Security State Bank | McRae | Georgia
First Bank of Coastal Georgia | Pembroke | Georgia
First Peoples Bank | Pine Mountain | Georgia
Citizens Bank of Washington County | Sandersville | Georgia
Bank of Hancock County | Sparta | Georgia
Thomas County Federal Savings & Loan Association | Thomasville | Georgia
Stephens Federal Bank | Toccoa | Georgia
Bank of Dade | Trenton | Georgia
Altamaha Bank & Trust Company | Uvalda | Georgia
Vidalia Federal Savings Bank | Vidalia | Georgia
Bank of Dooly | Vienna | Georgia
The Peoples Bank | Willacoochee | Georgia
Talbot State Bank | Woodland | Georgia
Harford Bank | Aberdeen | Maryland
Chesapeake Bank of Maryland | Baltimore | Maryland
Arundel Federal Savings Bank | Baltimore | Maryland
Rosedale Federal Savings & Loan Association | Baltimore | Maryland
Madison Square Federal Savings Bank | Baltimore | Maryland
Fairmount Bank | Baltimore | Maryland
Hopkins Federal Savings Bank | Baltimore | Maryland
Municipal Employees Credit Union of Baltimore | Baltimore | Maryland
Marriott Employees Federal Credit Union | Bethesda | Maryland
U.S. Postal Service Federal Credit Union | Clinton | Maryland
The Patapsco Bank | Dundalk | Maryland
OBA Bank | Germantown | Maryland
Community Bank of Tri-County | Waldorf | Maryland
Woodsboro Bank | Woodsboro | Maryland
Asheville Savings Bank | Asheville | North Carolina
Crescent State Bank | Cary | North Carolina
Charlotte Metro Credit Union | Charlotte | North Carolina
First Trust Bank | Charlotte | North Carolina
First Federal Bank | Dunn | North Carolina
North Carolina Community Federal Credit Union | Goldsboro | North Carolina
First FSB of Lincolnton | Lincolnton | North Carolina
Lumbee Guaranty Bank | Pembroke | North Carolina
N.C. Local Government Employees Federal Credit Union | Raleigh | North Carolina
Roanoke Valley Savings Bank, SSB | Roanoke Rapids | North Carolina
Roxboro Savings Bank, SSB | Roxboro | North Carolina
First South Bank | Washington | North Carolina
Truliant Federal Credit Union | Winston Salem | North Carolina
Abbeville Savings and Loan Association | Abbeville | South Carolina
The Conway National Bank | Conway | South Carolina
First Piedmont Federal Savings & Loan Association of Gaffney | Gaffney | South Carolina
South Carolina Telco Federal Credit Union | Greenville | South Carolina
Mutual Savings Bank | Hartsville | South Carolina
The Commercial Bank | Honea Path | South Carolina
Founders Federal Credit Union | Lancaster | South Carolina
First Community Bank, N.A | Lexington | South Carolina
Pee Dee Federal Savings Bank | Marion | South Carolina
South Carolina Federal Credit Union | North Charleston | South Carolina
Family Trust Federal Credit Union | Rock Hill | South Carolina
Oconee Federal Savings and Loan | Seneca | South Carolina
Seneca National Bank | Seneca | South Carolina
Community First Bank | Walhalla | South Carolina
Bank of Walterboro | Walterboro | South Carolina
Citizens Bank and Trust Company | Blackstone | Virginia
Monarch Bank | Chesapeake | Virginia
Cardinal Bank | Fairfax | Virginia
Alliance Bank Corporation | Fairfax | Virginia
Acacia Federal Savings Bank | Falls Church | Virginia
Virginia Savings Bank, FSB | Front Royal | Virginia
Virginia Community Bank | Louisa | Virginia
Martinsville First Savings Bank | Martinsville | Virginia
TowneBank | Portsmouth | Virginia
Millennium Bank, NA | Reston | Virginia
Partners Financial Federal Credit Union | Richmond | Virginia
Federal Home Loan Bank of Cincinnati—District 5
Home Federal Savings & Loan Association | Ashland | Kentucky
Kentucky Federal Savings & Loan Association | Covington | Kentucky
Casey County Bank | Liberty | Kentucky
Louisville Community Development | Louisville | Kentucky
Home Savings Bank, FSB | Ludlow | Kentucky
First Guaranty Bank | Martin | Kentucky
Bank of Maysville | Maysville | Kentucky
Hart County Bank and Trust | Munfordville | Kentucky
The Farmers Bank | Nicholasville | Kentucky
Independence Bank of Kentucky | Owensboro | Kentucky
First Security Bank of Owensboro | Owensboro | Kentucky
Owingsville Banking Company | Owingsville | Kentucky
Family Bank, FSB | Paintsville | Kentucky
Community Trust Bank, Inc | Pikeville | Kentucky
Madison Bank | Richmond | Kentucky
Cumberland Security Bank | Somerset | Kentucky
Citizens National Bank of Somerset | Somerset | Kentucky
Commercial Bank | West Liberty | Kentucky
Antwerp Exchange Bank | Antwerp | Ohio
Hocking Valley Bank | Athens | Ohio
Rockhold Brown & Company Bank | Bainbridge | Ohio
Citizens Federal Savings & Loan Association | Bellefontaine | Ohio
Citizens Bank Company | Beverly | Ohio
Mercer Savings Bank | Celina | Ohio
Cheviot Savings Bank | Cincinnati | Ohio
Cincinnati Federal Savings & Loan Association | Cincinnati | Ohio
The North Side Bank & Trust | Cincinnati | Ohio
The Home Loan Savings Bank | Coshocton | Ohio
The Covington Savings & Loan Association | Covington | Ohio
The Citizens Bank of De Graff | De Graff | Ohio
Midwest Community Federal Credit Union | Defiance | Ohio
First National Bank of Germantown | Germantown | Ohio
Chaco Credit Union, Incorporated | Hamilton | Ohio
The Hicksville Bank | Hicksville | Ohio
The Delaware County B&T Company | Lewis Center | Ohio
The Home Builders Association | Lynchburg | Ohio
The Bank of Magnolia Company | Magnolia | Ohio
The Citizens Savings Bank | Martins Ferry | Ohio
Peoples First Savings Bank | Mason | Ohio
Western Reserve Bank | Medina | Ohio
Bramble Savings Bank | Milford | Ohio
The Commercial & Savings Bank | Millersburg | Ohio
Peoples National Bank | New Lexington | Ohio
The First National Bank of Pandora | Pandora | Ohio
Century Bank, FSB | Parma | Ohio
Farmers Bank & Savings Company | Pomeroy | Ohio
The St. Henry Bank | Saint Henry | Ohio
The Arlington Bank | Upper Arlington | Ohio
The Commercial Savings Bank | Upper Sandusky | Ohio
First Citizens N.B. of Upper Sandusky | Upper Sandusky | Ohio
Versailles Savings and Loan Company | Versailles | Ohio
First National Bank of Waverly | Waverly | Ohio
Kemba Credit Union, Inc | West Chester | Ohio
Spring Valley Bank | Wyoming | Ohio
Home Savings and Loan Company | Youngstown | Ohio
Athens Federal Community Bank | Athens | Tennessee
People's Bank & Trust Company of Pickett | Byrdstown | Tennessee
Bank of Camden | Camden | Tennessee
Legends Bank | Clarksville | Tennessee
Fort Campbell Federal Credit Union | Clarksville | Tennessee
Greenfield Banking Company | Greenfield | Tennessee
First Peoples Bank of Tennessee | Jefferson City | Tennessee
Lawrenceburg Federal Bank, FSB | Lawrenceburg | Tennessee
Community Bank | Lexington | Tennessee
Union Bank & Trust Company | Livingston | Tennessee
BankTennessee | Memphis | Tennessee
City of Memphis Credit Union | Memphis | Tennessee
Farmers State Bank | Mountain City | Tennessee
Tennessee Credit Union | Nashville | Tennessee
Citizens Savings Bank & Trust Company | Nashville | Tennessee
First Trust & Savings Bank | Oneida | Tennessee
The First National Bank of Oneida | Oneida | Tennessee
Citizens Bank & Trust Company | Rutledge | Tennessee
The Bank of Waynesboro | Waynesboro | Tennessee
Federal Home Loan Bank of Indianapolis—District 6
Hoosier Heartland State Bank | Crawfordsville | Indiana
The Elberfeld State Bank | Elberfeld | Indiana
Forum Credit Union | Fishers | Indiana
Mutual Savings Bank | Franklin | Indiana
First Federal Savings & Loan Association of Hammond | Hammond | Indiana
The Lafayette Life Insurance Company | Lafayette | Indiana
Farmers State Bank | Lagrange | Indiana
West End Savings Bank | Richmond | Indiana
The Scott County State Bank | Scottsburg | Indiana
Communitywide Federal Credit Union | South Bend | Indiana
Indiana State University Federal Credit Union | Terre Haute | Indiana
Encompass Credit Union | Tipton | Indiana
Purdue Employees Federal Credit Union | West Lafayette | Indiana
TLC Community Credit Union | Adrian | Michigan
Sunrise Family Credit Union | Bay City | Michigan
Fidelity Bank | Dearborn | Michigan
First Independence Bank | Detroit | Michigan
Communicating Arts Credit Union | Detroit | Michigan
Michigan State University Federal Credit Union | East Lansing | Michigan
Northern Michigan Bank | Escanaba | Michigan
Citizens Bank | Flint | Michigan
Mercantile Bank of Michigan | Grand Rapids | Michigan
Lake Michigan Credit Union | Grand Rapids | Michigan
Northpointe Bank | Grand Rapids | Michigan
Mainstreet Savings Bank, FSB | Hastings | Michigan
The Bank of Holland | Holland | Michigan
Honor State Bank | Honor | Michigan
First National Bank & Trust Company of Iron Mountain | Iron Mountain | Michigan
Mayville State Bank | Mayville | Michigan
Wolverine Federal Savings & Loan Association | Midland | Michigan
Dow Chemical Employees Credit Union | Midland | Michigan
Northland Area Federal Credit Union | Oscoda | Michigan
Port Austin State Bank | Port Austin | Michigan
Sturgis Bank & Trust Company, FSB | Sturgis | Michigan
Federal Home Loan Bank of Chicago—District 7
Southeast National Bank | Moline | Illinois
Citizens National Bank of Albion | Albion | Illinois
Anna-Jonesboro National Bank | Anna | Illinois
Arcola First Bank | Arcola | Illinois
The First National Bank of Arenzville | Arenzville | Illinois
Ben Franklin Bank of Illinois | Arlington Heights | Illinois
West Central Bank | Ashland | Illinois
The Atlanta National Bank | Atlanta | Illinois
Scott State Bank | Bethany | Illinois
First State Bank of Bloomington | Bloomington | Illinois
Midland Federal Savings & Loan Association | Bridgeview | Illinois
First National Bank of Brookfield | Brookfield | Illinois
Farmers and Merchants State Bank of Bushnell | Bushnell | Illinois
Byron Bank | Byron | Illinois
First State Bank of Campbell Hill | Campbell Hill | Illinois
Carrollton Bank | Carrollton | Illinois
Bank of Chestnut | Chestnut | Illinois
Second Federal Savings & Loan Association of Chicago | Chicago | Illinois
Royal Savings Bank | Chicago | Illinois
Hoyne Savings Bank | Chicago | Illinois
Loomis Federal Savings & Loan Association | Chicago | Illinois
North Side Federal Savings & Loan Association of Chicago | Chicago | Illinois
Seaway Bank and Trust Company | Chicago | Illinois
American Metro Bank | Chicago | Illinois
Chicago Patrolmen's Federal Credit Union | Chicago | Illinois
MB Financial Bank, National Association | Chicago | Illinois
Central Federal Savings & Loan Association | Cicero | Illinois
Central State Bank | Clayton | Illinois
De Witt Savings Bank | Clinton | Illinois
First Collinsville Bank | Collinsville | Illinois
First United Bank | Crete | Illinois
Crystal Lake Bank & Trust Company, N.A | Crystal Lake | Illinois
Soy Capital Bank and Trust Company | Decatur | Illinois
Baxter Credit Union | Deerfield | Illinois
Better Banks | Dunlap | Illinois
Community First Bank | Fairview Heights | Illinois
Bank of Farmington | Farmington | Illinois
First State Bank of Forrest | Forrest | Illinois
Community State Bank | Galva | Illinois
The Gifford State Bank | Gifford | Illinois
Harvard Savings Bank | Harvard | Illinois
Premier Bank of Jacksonville | Jacksonville | Illinois
Joy State Bank | Joy | Illinois
First Trust Bank of Illinois | Kankakee | Illinois
First National Bank of Lagrange | Lagrange | Illinois
Exchange State Bank | Lanark | Illinois
The Lemont National Bank | Lemont | Illinois
State Bank of Lincoln | Lincoln | Illinois
Prairie Community Bank | Marengo | Illinois
The First National Bank | Mattoon | Illinois
A J Smith Federal Savings Bank | Midlothian | Illinois
Security Savings Bank | Monmouth | Illinois
Farmers State Bank & Trust Company | Mount Sterling | Illinois
First County Bank | New Baden | Illinois
Warren-Boynton State Bank | New Berlin | Illinois
The Peoples State Bank of Newton, Illinois | Newton | Illinois
The Old Exchange N.B. of Okawville | Okawville | Illinois
First Personal Bank | Orland Park | Illinois
Ottawa Savings Bank | Ottawa | Illinois
Peoples Bank & Trust | Pana | Illinois
State Bank of Paw Paw, Illinois | Paw Paw | Illinois
Farmers-Merchants National Bank of Paxton | Paxton | Illinois
Town and Country Bank of Quincy | Quincy | Illinois
Community State Bank of Rock Falls | Rock Falls | Illinois
Alpine Bank of Illinois | Rockford | Illinois
Rushville State Bank | Rushville | Illinois
AmericaUnited Bank and Trust Company USA | Schaumburg | Illinois
American Chartered Bank | Schaumburg | Illinois
State Bank of Speer | Speer | Illinois
Illini Bank | Springfield | Illinois
Tuscola National Bank | Tuscola | Illinois
Petefish, Skiles & Company | Virginia | Illinois
Community Bank | Winslow | Illinois
State Bank | Wonder Lake | Illinois
Portage County Bank | Almond | Wisconsin
Pioneer Bank | Auburndale | Wisconsin
First Bank of Baldwin | Baldwin | Wisconsin
Black River Country Bank | Black River Falls | Wisconsin
Bonduel State Bank | Bonduel | Wisconsin
Bank Mutual | Brown Deer | Wisconsin
Bank of Cashton | Cashton | Wisconsin
Farmers and Merchants Union Bank | Columbus | Wisconsin
Wisconsin Community Bank | Cottage Grove | Wisconsin
Cumberland Federal Bank, FSB | Cumberland | Wisconsin
Town Bank | Delafield | Wisconsin
Cornerstone Community Bank | Grafton | Wisconsin
Bay Bank | Green Bay | Wisconsin
Highland State Bank | Highland | Wisconsin
Park Bank | Holmen | Wisconsin
Security State Bank | Iron River | Wisconsin
East Wisconsin Savings Bank, S.A | Kaukauna | Wisconsin
The Greenwood's State Bank | Lake Mills | Wisconsin
First National Bank—Fox Valley | Menasha | Wisconsin
Bank of Milton | Milton | Wisconsin
Clare Bank, N.A | Platteville | Wisconsin
Mound City Bank | Platteville | Wisconsin
First National Bank of Platteville | Platteville | Wisconsin
The First National Bank of River Falls | River Falls | Wisconsin
Intercity State Bank | Schofield | Wisconsin
Community Bank & Trust | Sheboygan | Wisconsin
Bank of Sun Prairie | Sun Prairie | Wisconsin
Walworth State Bank | Walworth | Wisconsin
First Federal Savings Bank of Wisconsin | Waukesha | Wisconsin
KeySavings Bank | Wisconsin Rapids | Wisconsin
WoodTrust Bank, N.A | Wisconsin Rapids | Wisconsin
River Cities Bank | Wisconsin Rapids | Wisconsin
Federal Home Loan Bank of Des Moines—District 8
Landmands Bank | Audubon | Iowa
Commercial Savings Bank | Carroll | Iowa
Page County State Bank | Clarinda | Iowa
Linn County State Bank | Coggon | Iowa
Farmers Savings Bank | Colesburg | Iowa
Iowa Savings Bank | Carroll | Iowa
Okey-Vernon First National Bank | Corning | Iowa
Alliant Credit Union | Dubuque | Iowa
First National Bank in Fairfield | Fairfield | Iowa
Farmers Savings Bank | Fostoria | Iowa
Grinnell Mutual Reinsurance Company | Grinnell | Iowa
Security State Bank | Hubbard | Iowa
First State Bank of Mapleton | Mapleton | Iowa
Maxwell State Bank | Maxwell | Iowa
Bridge Community Bank | Mount Vernon | Iowa
State Bank & Trust Company | Nevada | Iowa
First Newton National Bank | Newton | Iowa
American State Bank | Osceola | Iowa
Panora State Bank | Panora | Iowa
Marion County State Bank | Pella | Iowa
Savings Bank | Primghar | Iowa
Readlyn Savings Bank | Readlyn | Iowa
Premier Bank | Rock Valley | Iowa
Home State Bank | Royal | Iowa
Iowa State Bank | Sac City | Iowa
Sanborn Savings Bank | Sanborn | Iowa
The State Bank | Spirit Lake | Iowa
The State Bank of Toledo | Toledo | Iowa
Iowa State Bank | Wapello | Iowa
Security State Bank | Waverly | Iowa
First State Bank | Webster City | Iowa
Freedom Financial Bank | West Des Moines | Iowa
Union State Bank | Winterset | Iowa
Farmers & Merchants State Bank | Winterset | Iowa
Altura State Bank | Altura | Minnesota
American National Bank of Minnesota | Baxter | Minnesota
First State Bank and Trust | Bayport | Minnesota
First National Bank Bemidji | Bemidji | Minnesota
F & M Bank Minnesota | Clarkfield | Minnesota
The First National Bank of Coleraine | Coleraine | Minnesota
Woodland Bank | Remer | Minnesota
Farmers State Bank of Dent | Dent | Minnesota
Northwestern Bank, N.A | Dilworth | Minnesota
Western National Bank | Duluth | Minnesota
Fidelity Bank | Edina | Minnesota
State Bank of Fairmont | Fairmont | Minnesota
Franklin State Bank | Franklin | Minnesota
Commerce Bank | Geneva | Minnesota
The First National Bank of Gilbert | Gilbert | Minnesota
Eagle Bank | Glenwood | Minnesota
First Southeast Bank | Harmony | Minnesota
Farmers State Bank of Hartland | Hartland | Minnesota
First Community Bank Lester Prairie | Lester Prairie | Minnesota
Center National Bank | Litchfield | Minnesota
Exchange State Bank | Hills | Minnesota
Northern Star Bank | Mankato | Minnesota
CornerStone State Bank | Montgomery | Minnesota
United Farmers & Merchants State Bank | Morris | Minnesota
Citizens State Bank Norwood Young America | Norwood Young America | Minnesota
Odin State Bank | Odin | Minnesota
PrinsBank | Prinsburg | Minnesota
Randall State Bank | Randall | Minnesota
Home Federal Savings Bank | Rochester | Minnesota
North Star Bank | Roseville | Minnesota
Unity Bank | Rush City | Minnesota
First State Bank Southwest | Pipestone | Minnesota
First Community Bank Silver Lake | Silver Lake | Minnesota
Integrity Bank Plus | Wabasso | Minnesota
Citizens State Bank of Waverly, Inc | Waverly | Minnesota
Wells Federal Bank, a Federal Savings Bank | Wells | Minnesota
St. Paul Postal Employees Credit Union | Woodbury | Minnesota
Worthington Federal Savings Bank, FSB | Worthington | Minnesota
Community First Bank | Appleton City | Missouri
First Missouri National Bank | Brookfield | Missouri
Carroll County Trust Company | Carrollton | Missouri
Investors National Bank | Chillicothe | Missouri
Chillicothe State Bank | Chillicothe | Missouri
Concordia Bank of Concordia | Concordia | Missouri
Ozarks Federal Savings and Loan Association | Farmington | Missouri
First State Community Bank | Farmington | Missouri
The Callaway Bank | Fulton | Missouri
Northland National Bank | Gladstone | Missouri
Bank Northwest | Hamilton | Missouri
HNB National Bank | Hannibal | Missouri
Eagle Bank & Trust Company of Missouri | Hillsboro | Missouri
Bank of Iberia | Iberia | Missouri
Lamar Bank and Trust Company | Lamar | Missouri
Summit Bank of Kansas City | Lee's Summit | Missouri
Legends Bank | Linn | Missouri
First National Bank | Malden | Missouri
Wood & Huston Bank | Marshall | Missouri
Community Bank of Marshall | Marshall | Missouri
The First National Bank of Audrain County | Mexico | Missouri
Peoples Bank of the Ozarks | Nixa | Missouri
First Midwest Bank of the Ozarks | Piedmont | Missouri
Peoples Savings Bank of Rhineland | Rhineland | Missouri
The State Bank | Richmond | Missouri
First State Bank of St. Charles, Missouri | Saint Charles | Missouri
Town & Country Bank | Salem | Missouri
Farmers State Bank, SB | Schell City | Missouri
Third National Bank | Sedalia | Missouri
Senath State Bank | Senath | Missouri
The Community Bank of Shell Knob | Shell Knob | Missouri
Old Missouri Bank | Springfield | Missouri
Midwest BankCentre | St. Louis | Missouri
Bank of Thayer | Thayer | Missouri
Quarry City Savings & Loan Association | Warrensburg | Missouri
First State Bank of Cando | Cando | North Dakota
Citizens State Bank—Midwest | Cavalier | North Dakota
U.S. Bank National Association, North Dakota | Fargo | North Dakota
Union State Bank of Fargo | Fargo | North Dakota
State Bank & Trust of Kenmare | Kenmare | North Dakota
Farmers and Merchants State Bank | Langdon | North Dakota
First Western Bank & Trust | Minot | North Dakota
Lakeside State Bank | New Town | North Dakota
McKenzie County Bank | Watford City | North Dakota
BankStar Financial | Elkton | South Dakota
Dakotaland Federal Credit Union | Huron | South Dakota
Home Federal Bank | Sioux Falls | South Dakota
Great Western Bank | Sioux Falls | South Dakota
First State Bank | Wilmot | South Dakota
First National Bank South Dakota | Yankton | South Dakota
Federal Home Loan Bank of Dallas—District 9
First Community Bank | Batesville | Arkansas
Farmers Bank & Trust Company | Blytheville | Arkansas
Centennial Bank | Conway | Arkansas
River Town Bank | Dardanelle | Arkansas
First Financial Bank | El Dorado | Arkansas
Fordyce Bank & Trust Company | Fordyce | Arkansas
Forrest City Bank, N.A | Forrest City | Arkansas
Benefit Bank | Ft. Smith | Arkansas
First State Bank of Northwest Arkansas | Huntsville | Arkansas
Simmons First Bank of South Arkansas | Lake Village | Arkansas
Allied Bank | Mulberry | Arkansas
First National Bank at Paris | Paris | Arkansas
Delta Trust & Bank | Parkdale | Arkansas
Pine Bluff National Bank | Pine Bluff | Arkansas
Simmons First Bank of Northwest Arkansas | Rogers | Arkansas
Red River Bank | Alexandria | Louisiana
E Federal Credit Union | Baton Rouge | Louisiana
Bank of Coushatta | Coushatta | Louisiana
St. Tammany Homestead Association | Covington | Louisiana
City Savings Bank & Trust Company | De Ridder | Louisiana
Teche Federal Bank | Franklin | Louisiana
Florida Parishes Bank | Hammond | Louisiana
Synergy Bank | Houma | Louisiana
Coastal Commerce Bank | Houma | Louisiana
Mutual Savings and Loan Association | Metairie | Louisiana
Eureka Homestead | Metairie | Louisiana
Hibernia Homestead Bank | New Orleans | Louisiana
Peoples Bank and Trust Company | New Roads | Louisiana
American Gateway Bank | Port Allen | Louisiana
Richland State Bank | Rayville | Louisiana
Bank of Ringgold | Ringgold | Louisiana
Bank of Ruston | Ruston | Louisiana
Bank of St. Francisville | St. Francisville | Louisiana
The Bank of Commerce | White Castle | Louisiana
Amory Federal Savings & Loan Association | Amory | Mississippi
Spirit Bank | Belmont | Mississippi
The Peoples Bank | Biloxi | Mississippi
Bank of Brookhaven | Brookhaven | Mississippi
The Cleveland State Bank | Cleveland | Mississippi
Commerce National Bank | Corinth | Mississippi
Bank of Holly Springs | Holly Springs | Mississippi
Britton & Koontz Bank, N.A | Natchez | Mississippi
Sycamore Bank | Senatobia | Mississippi
Mechanics Bank | Water Valley | Mississippi
First National Bank | Alamogordo | New Mexico
International Bank | Raton | New Mexico
Tucumcari Federal Savings & Loan Association | Tucumcari | New Mexico
First State Bank | Athens | Texas
Community Resource Credit Union | Baytown | Texas
Fannin Bank | Bonham | Texas
Texas Heritage Bank | Cross Plains | Texas
Zavala County Bank | Crystal City | Texas
NexBank, SSB | Dallas | Texas
Beal Bank, SSB | Dallas | Texas
Credit Union of Texas | Dallas | Texas
First United Bank | Dimmitt | Texas
First National Bank of Dublin | Dublin | Texas
Union State Bank | Florence | Texas
OmniAmerican Bank | Fort Worth | Texas
Security National Bank of Quanah | Frisco | Texas
Community Bank | Granbury | Texas
Community National Bank | Hondo | Texas
MetroBank, N.A | Houston | Texas
Central Bank | Houston | Texas
Reliance Standard Life Insurance Company | Houston | Texas
Southwestern National Bank | Houston | Texas
Austin Bank, Texas N.A | Jacksonville | Texas
Texas State Bank | Joaquin | Texas
Pinnacle Bank | Keene | Texas
First National Bank of Lake Jackson | Lake Jackson | Texas
First Federal Bank Littlefield, Texas | Littlefield | Texas
PlainsCapital Bank | Lubbock | Texas
The Mason National Bank | Mason | Texas
Mineola Community Bank, SSB | Mineola | Texas
First Financial Bank, N.A | Mineral Wells | Texas
The American National Bank Mt. Pleasant | Mount Pleasant | Texas
Commercial Bank of Texas, N.A. | Nacogdoches | Texas
Western National Bank | Odessa | Texas
Security Bank | Odessa | Texas
Orange Savings Bank, SSB | Orange | Texas
Lone Star National Bank | Pharr | Texas
South Padre Bank, N.A | South Padre | Texas
First Financial Bank, N.A | Southlake | Texas
Woodforest National Bank | The Woodlands | Texas
First National Bank of Trinity | Trinity | Texas
Citizens State Bank | Tyler | Texas
First National Bank of Bosque County | Valley Mills | Texas
First National Bank of Central Texas | Waco | Texas
Extraco Banks, N.A | Waco | Texas
Community Bank & Trust | Waco | Texas
Federal Home Loan Bank of Topeka—District 10
Premier Members Federal Credit Union | Boulder | Colorado
First National Bank, Cortez | Cortez | Colorado
Del Norte Savings & Loan Association | Del Norte | Colorado
Premier Bank—Denver, Colorado | Denver | Colorado
Citywide Banks—Aurora, Colorado | Denver | Colorado
Rocky Mountain Law Enforcement Federal Credit Union | Denver | Colorado
Bank of the San Juans | Durango | Colorado
Fort Morgan State Bank | Fort Morgan | Colorado
Points West Community Bank | Julesburg | Colorado
Kit Carson State Bank | Kit Carson | Colorado
The State Bank | La Junta | Colorado
Home State Bank | Loveland | Colorado
First Colorado National Bank | Paonia | Colorado
Home Savings Bank | Chanute | Kansas
Bank of Commerce | Chanute | Kansas
Farmers & Merchants Bank of Colby | Colby | Kansas
Legacy Bank | Colwich | Kansas
The State Bank of Conway Springs | Conway Springs | Kansas
Farmers and Drovers Bank | Council Grove | Kansas
Citizens State Bank & Trust Company | Ellsworth | Kansas
State Bank of Fredonia | Fredonia | Kansas
Gardner Bank | Gardner | Kansas
Community Bank of the Midwest | Great Bend | Kansas
The Halstead Bank | Halstead | Kansas
Security Bank of Kansas City | Kansas City | Kansas
Douglas County Bank | Lawrence | Kansas
National Bank of Kansas City | Leawood | Kansas
The Lyons State Bank | Lyons | Kansas
The Farmers State Bank | McPherson | Kansas
The Mission Bank | Mission | Kansas
Carson Bank | Mulvane | Kansas
The Farmers State Bank of Oakley | Oakley | Kansas
Valley View State Bank | Overland Park | Kansas
Citizens State Bank | Paola | Kansas
University Bank | Pittsburg | Kansas
Alliant Bank | Sedgwick | Kansas
TriCentury Bank | Simpson | Kansas
First Bank | Sterling | Kansas
The Valley State Bank | Syracuse | Kansas
The Tampa State Bank | Tampa | Kansas
Kaw Valley Bank | Topeka | Kansas
Community Bank | Topeka | Kansas
Chisholm Trail State Bank | Wichita | Kansas
Intrust Bank, National Association | Wichita | Kansas
Bank of the Valley | Bellwood | Nebraska
Bank of Bennington | Bennington | Nebraska
Washington County Bank | Blair | Nebraska
Custer Federal Savings & Loan Association | Broken Bow | Nebraska
First Central Bank | Cambridge | Nebraska
Citizens State Bank | Carleton | Nebraska
CerescoBank | Ceresco | Nebraska
First Bank and Trust Company | Cozad | Nebraska
Jefferson County Bank | Daykin | Nebraska
First National Bank in Exeter | Exeter | Nebraska
First State Bank | Farnam | Nebraska
First State Bank and Trust | Fremont | Nebraska
Gothenburg State Bank | Gothenburg | Nebraska
Five Points Bank of Hastings | Hastings | Nebraska
Henderson State Bank | Henderson | Nebraska
Farmers State Bank | Maywood | Nebraska
First Central Bank McCook, N.A | McCook | Nebraska
Farmers and Merchants Bank | Milligan | Nebraska
Centennial Bank | Omaha | Nebraska
First National Bank of Omaha | Omaha | Nebraska
The Potter State Bank of Potter | Potter | Nebraska
Peoples-Webster County Bank | Red Cloud | Nebraska
Citizens Bank of Ada | Ada | Oklahoma
The First National Bank in Altus | Altus | Oklahoma
The FNB and Trust Company of Broken Arrow | Broken Arrow | Oklahoma
Farmers Exchange Bank | Cherokee | Oklahoma
The First National Bank and Trust Company | Chickasha | Oklahoma
1st Bank Oklahoma | Claremore | Oklahoma
Kirkpatrick Bank | Edmond | Oklahoma
The Bank of Union | El Reno | Oklahoma
Bank of Western Oklahoma | Elk City | Oklahoma
Liberty Federal Savings Bank | Enid | Oklahoma
Fairview Savings & Loan Association | Fairview | Oklahoma
Stockmans Bank—Altus, OK | Gould | Oklahoma
Oklahoma State Bank | Guthrie | Oklahoma
The City NB&T Company of Guymon | Guymon | Oklahoma
The Bank of Kremlin | Kremlin | Oklahoma
Liberty National Bank | Lawton | Oklahoma
The Morris State Bank | Morris | Oklahoma
Oklahoma Educators Credit Union—Oklahoma | Oklahoma City | Oklahoma
First Security Bank and Trust Company | Oklahoma City | Oklahoma
Osage Federal Bank | Pawhuska | Oklahoma
NBC Bank | Pawhuska | Oklahoma
Exchange Bank and Trust Company | Perry | Oklahoma
The Central National Bank of Poteau | Poteau | Oklahoma
First Pryority Bank | Pryor | Oklahoma
Peoples Bank & Trust Company | Ryan | Oklahoma
InterBank | Sayre | Oklahoma
Southwest State Bank | Sentinel | Oklahoma
Advantage Bank | Spencer | Oklahoma
Bank of Commerce | Stilwell | Oklahoma
American Bank and Trust Company | Tulsa | Oklahoma
Security Bank | Tulsa | Oklahoma
Sooner State Bank | Tuttle | Oklahoma
First State Bank | Valliant | Oklahoma
First State Bank | Watonga | Oklahoma
Peoples Bank | Westville | Oklahoma
The Bank of Wyandotte | Wyandotte | Oklahoma
The Yukon National Bank | Yukon | Oklahoma
Federal Home Loan Bank of San Francisco—District 11
Los Angeles National Bank | Buena Park | California
Burbank City Federal Credit Union | Burbank | California
Pacific Trust Bank | Chula Vista | California
Financial Partners Credit Union | Downey | California
Centennial Bank | Fountain Valley | California
Murphy Bank | Fresno | California
USC Credit Union | Los Angeles | California
Heritage Oaks Bank | Paso Robles | California
Provident Credit Union | Redwood Shores | California
Provident Savings Bank | Riverside | California
Five Star Bank | Rocklin | California
First U.S. Community Credit Union | Sacramento | California
Neighborhood National Bank | San Diego | California
Bank of The Orient | San Francisco | California
Pacific Coast Bankers' Bank | San Francisco | California
Meriwest Credit Union | San Jose | California
Santa Cruz Community Credit Union | Santa Cruz | California
Bank of Stockton | Stockton | California
Universal Bank, FSB | West Covina | California
First Republic Bank | San Francisco | California
Pinnacle Bank (AZ) | Scottsdale | Arizona
Professional Business Bank | Pasadena | California
River City Bank | Sacramento | California
Royal Business Bank | Los Angeles | California
San Mateo Credit Union | Redwood City | California
Federal Home Loan Bank of Seattle—District 12
Credit Union 1 | Anchorage | Alaska
ANZ Guam, Inc | Agana | Guam
Panhandle State Bank | Sandpoint | Idaho
First Citizens Bank of Butte | Butte | Montana
Dutton State Bank | Dutton | Montana
Valley Bank of Glasgow | Glasgow | Montana
1st Liberty Federal Credit Union | Great Falls | Montana
Independence Bank | Havre | Montana
Manhattan Bank | Manhattan | Montana
First Security Bank of Missoula | Missoula | Montana
Community Bank-Missoula, Inc | Missoula | Montana
Community Bank, Inc. | Ronan | Montana
Basin State Bank | Stanford | Montana
Evergreen Federal Savings & Loan Association | Grants Pass | Oregon
Bank of Eastern Oregon | Heppner | Oregon
South Valley Bank & Trust | Klamath Falls | Oregon
USU Charter Federal Credit Union | Logan | Utah
Wells Fargo Bank Northwest, N.A | Salt Lake City | Utah
Franklin Templeton Bank & Trust, FSB | Salt Lake City | Utah
American Marine Bank | Bainbridge Island | Washington
Riverview Community Bank | Camas | Washington
The Bank of Washington | Edmonds | Washington
Fife Commercial Bank | Fife | Washington
Whidbey Island Bank | Oak Harbor | Washington
Olympia Federal Savings & Loan Association | Olympia | Washington
TwinStar Credit Union | Olympia | Washington
First Federal Savings & Loan Association of Port Angeles | Port Angeles | Washington
Seattle Bank | Seattle | Washington
Our Community Credit Union | Shelton | Washington
Western United Life Assurance Company | Spokane | Washington
Yakima Federal Savings & Loan Association | Yakima | Washington
Buffalo Federal Savings Bank | Buffalo | Wyoming
Hilltop National Bank | Casper | Wyoming
Tri-County Bank | Cheyenne | Wyoming
Big Horn Federal Savings Bank | Greybull | Wyoming
Oregon Trail Bank | Guernsey | Wyoming
Rocky Mountain Bank | Rock Springs | Wyoming
Rock Springs National Bank | Rock Springs | Wyoming
Pinnacle Bank—Wyoming | Torrington | Wyoming

II. Public Comments

To encourage the submission of public comments on the community support performance of Bank members, on or before November 24, 2011, each Bank will notify its Advisory Council and nonprofit housing developers, community groups, and other interested parties in its district of the members selected for community support review in the 2010 fourth round review cycle. 12 CFR 1290.2(b)(2)(ii). In reviewing a member for community support compliance, FHFA will consider any public comments it has received concerning the member. 12 CFR 1290.2(d). To ensure consideration by FHFA, comments concerning the community support performance of members selected for the 2010 fourth round review cycle must be delivered to FHFA, either by hard-copy mail at the Federal Housing Finance Agency, Housing Mission and Goals, 1625 Eye Street NW., Washington, DC 20006, or by electronic mail to hmgcommunitysupportprogram@fhfa.gov on or before the December 27, 2011 deadline for submission of Community Support Statements.

Dated: November 4, 2011.
Edward J. DeMarco,
Acting Director, Federal Housing Finance Agency.

[FR Doc. 2011-29164 Filed 11-9-11; 8:45 am]

BILLING CODE 8070-01-P